DEPARTMENT OF TRANSPORTATION

Federal Motor Carrier Safety Administration

[Docket No. FMCSA-2015-0071]

Qualification of Drivers; Exemption Applications; Vision

AGENCY: Federal Motor Carrier Safety Administration (FMCSA), DOT.

ACTION: Notice of applications for exemptions; request for comments.

SUMMARY: FMCSA announces receipt of applications from 28 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 2, 2015. All comments will be investigated by FMCSA. The exemptions will be issued the day after the comment period closes.

ADDRESSES: You may submit comments bearing the Federal Docket Management System (FDMS) Docket No. FMCSA-2015-0071 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 28 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Bruce D. Amundson

Mr. Amundson, 59, has had amblyopia in his left eye since birth. The visual acuity in his right eye is 20/20, and in his left eye, 20/400. Following an examination in 2015, his optometrist stated, “Bruce Amundson definitely has sufficient vision to perform the driving tasks required to operate a commercial vehicle.” Mr. Amundson reported that he has driven straight trucks for 43 years, accumulating 215,000 miles, and tractor-trailer combinations for 15 years, accumulating 450,000 miles. He holds a Class A CDL from Iowa. His driving record for the last 3 years shows no crashes and no convictions for moving violations in a CMV.

Terry M. Baldwin

Mr. Baldwin, 51, has had optic nerve coloboma and retinal dysplasia in his left eye since birth. The visual acuity in his right eye is 20/20, and in his left eye, light perception. Following an examination in 2015, his optometrist stated, “Since Mr. Baldwin has been living his entire life with this left eye vision deficit, he has obviously made compensatory adaptations to it and has sufficient vision to perform driving tasks required to operate a commercial vehicle.” Mr. Baldwin reported that he has driven straight trucks for 12 years, accumulating 124,800 miles. He holds a Class C CDL from Pennsylvania. His driving record for the last 3 years shows no crashes and no convictions for moving violations in a CMV.

Gene B. Clyde

Mr. Clyde, 52, has had amblyopia in his right eye since birth. The visual acuity in his right eye is 20/400, and in his left eye, 20/20. Following an examination in 2015, his ophthalmologist stated, “In my medical opinion, this patient has been driving for over 30 years and has not had any accidents and therefore would seem his vision is sufficient for commercial driving.” Mr. Clyde reported that he has driven straight trucks for 27 years, accumulating 675,000 miles, and tractor-trailer combinations for 8 years, accumulating 200,000 miles. He holds a Class AM CDL from New York. His driving record for the last 3 years shows no crashes and 1 conviction for a moving violation in a CMV; he failed to obey a traffic control.

Joseph Coelho Jr.

Mr. Coelho, 55, has had amblyopia in his left eye since birth. The visual acuity in his right eye is 20/20, and in his left eye, 20/200. Following an examination in 2015, his ophthalmologist stated, “He has had amblyopia of the left eye throughout his life. In my medical opinion, Mr. Coelho is qualified to operate a commercial motor vehicle.” Mr. Coelho reported that he has driven straight trucks for 38 years, accumulating 380,000 miles, and tractor-trailer combinations for 2 years, accumulating 30,000 miles. He holds a Class A CDL from Rhode Island. His driving record for the last 3 years shows no crashes and no convictions for moving violations in a CMV.

Levi R. Coutcher

Mr. Coutcher, 60, has had optic nerve atrophy in his left eye since 1995. The visual acuity in his right eye is 20/20, and in his left eye, 20/150. Following an examination in 2015, his optometrist stated, “In my opinion Levi Coutcher has sufficient vision to perform the tasks required to operate a commercial vehicle safely.” Mr. Coutcher reported that he has driven straight trucks for 14 years, accumulating 210,000 miles, and tractor-trailer combinations for 14 years, accumulating 840,000 miles. He holds a Class A CDL from Washington. His driving record for the last 3 years shows no crashes and no convictions for moving violations in a CMV.

Leonard H. Culbertson

Mr. Culbertson, 58, has optic neuropathy in his left eye due to a traumatic incident in 1995. The visual acuity in his right eye is 20/20, and in his left eye, counting fingers. Following an examination in 2015, his ophthalmologist stated, “In my medical opinion he has sufficient vision to perform the driving tasks required to operate a commercial vehicle.” Mr. Culbertson reported that he has driven straight trucks for 41 years, accumulating 410,000 miles, and tractor-trailer combinations for 9 years, accumulating 1.13 million miles. He holds a Class B CDL from Georgia. His driving record for the last 3 years shows no crashes and no convictions for moving violations in a CMV.

Craig L. Dawson, Sr.

Mr. Dawson, 50, has had central scotoma in his left eye since 2008. The visual acuity in his right eye is 20/20, and in his left eye, 20/100. Following an examination in 2015, his ophthalmologist stated, “In my medical opinion, Mr. Dawson does have sufficient vision to operate a commercial vehicle.” Mr. Dawson reported that he has driven straight trucks for 25 years, accumulating 500,000 miles, and tractor-trailer combinations for 25 years, accumulating 3 million miles. He holds a Class A CDL from Ohio. His driving record for the last 3 years shows no crashes and no convictions for moving violations in a CMV.

Jason R. Gast

Mr. Gast, 36, has a detached retina with subsequent repair in his right eye due to a traumatic incident in 2000. The visual acuity in his right eye is 20/50, and in his left eye, 20/20. Following an examination in 2015, his ophthalmologist stated, “Therefore it is my medical opinion that he has sufficient vision to perform the driving tasks required to operate a commercial vehicle.” Mr. Gast reported that he has driven straight trucks for 14 years, accumulating 26,000 miles, and tractor-trailer combinations for 2 years, accumulating 4,000 miles. He holds a Class A CDL from Missouri. His driving record for the last 3 years shows no crashes and no convictions for moving violations in a CMV.

Nirmal S. Gill

Mr. Gill, 50, has had esotropia and strabismic amblyopia in his right eye since birth. The visual acuity in his right eye is 20/400, and in his left eye, 20/20. Following an examination in 2015, his ophthalmologist stated, “Patient has sufficient vision to perform the driving tasks required to operate a commercial vehicle.” Mr. Gill reported that he has driven tractor-trailer combinations for 15 years, accumulating 1.2 million miles. He holds a Class A CDL from California. His driving record for the last 3 years shows no crashes and no convictions for moving violations in a CMV.

Robert C. Green, Jr.

Mr. Green, 58, has a prosthetic left eye due to a traumatic incident in 1960. The visual acuity in his right eye is 20/20, and in his left eye, no light perception. Following an examination in 2015, his optometrist stated, “He has sufficient vision to perform all driving tasks required to operate a commercial vehicle.” Mr. Green reported that he has driven straight trucks for 28 years, accumulating 21,840 miles. He holds a Class AM CDL from Pennsylvania. His driving record for the last 3 years shows no crashes and no convictions for moving violations in a CMV.

Stanley Grubb

Mr. Grubb, 62, has had refractive amblyopia in his left eye since 2002. The visual acuity in his right eye is 20/25, and in his left eye, 20/800. Following an examination in 2015, his optometrist stated, “Patient has sufficient vision to drive a commercial vehicle.” Mr. Grubb reported that he has driven straight trucks for 43 years, accumulating 774,000 miles, and tractor-trailer combinations for 43 years, accumulating 1.29 million miles. He holds a Class DA CDL from Kentucky. His driving record for the last 3 years shows no crashes and no convictions for moving violations in a CMV.

Louis M. Hankins

Mr. Hankins, 53, has had a prosthetic left eye due to a traumatic incident in 2001. The visual acuity in his right eye is 20/20, and in his left eye, no light perception. Following an examination in 2015, his ophthalmologist stated, “I understand he has been driving on a CDL . . . He has 110+ degrees of visual field on his right side. With side mirrors he should be able to continue to drive without difficulty.” Mr. Hankins reported that he has driven tractor-trailer combinations for 31 years, accumulating 2.64 million miles. He holds a Class AM CDL from Illinois. His driving record for the last 3 years shows no crashes and no convictions for moving violations in a CMV.

Nathan H. Jacobs

Mr. Jacobs, 60, has had esotropia in his right eye since childhood. The visual acuity in his right eye is 20/60, and in his left eye, 20/20. Following an examination in 2014, his optometrist stated, “I certify that in my medical opinion does have sufficient vision to perform the driving tasks required to operate a commercial vehicle.” Mr. Jacobs reported that he has driven tractor-trailer combinations for 34 years, accumulating 51,000 miles. He holds an operator's license from New Mexico. His driving record for the last 3 years shows no crashes and no convictions for moving violations in a CMV.

Danny L. Keplinger

Mr. Keplinger, 55, has had amblyopia in his right eye since childhood. The visual acuity in his right eye is 20/60, and in his left eye, 20/20. Following an examination in 2015, his optometrist stated, “In my professional opinion, Mr. Keplinger has sufficient vision to operate a commercial vehicle.” Mr. Keplinger reported that he has driven tractor-trailer combinations for 14 years, accumulating 728,000 miles. He holds a Class AM CDL from Virginia. His driving record for the last 3 years shows no crashes and no convictions for moving violations in a CMV.

Kimber S. Krushinski

Mr. Krushinski, 58, has had amblyopia in his right eye since childhood. The visual acuity in his right eye is 20/100, and in his left eye, 20/20. Following an examination in 2015, his optometrist stated, “US Dept. Transportation . . . Horizontal visual field is satisfactory for driving.” Mr. Krushinski reported that he has driven straight trucks for 20 years, accumulating 680,000 miles. He holds an operator's license from New York. His driving record for the last 3 years shows no crashes and no convictions for moving violations in a CMV.

Carmelo Lana

Mr. Lana, 63, has had myopic degeneration and amblyopia in his left eye since birth. The visual acuity in his right eye is 20/25, and in his left eye, counting fingers. Following an examination in 2015, his ophthalmologist stated, “Myopic Degeneration Left and—congenital/stable [sic] . . . Approved to operate commercial vehicle.” Mr. Lana reported that he has driven straight trucks for 43 years, accumulating 2.15 million miles, and tractor-trailer combinations for 43 years, accumulating 2.15 million miles. He holds an operator's license from New Jersey. His driving record for the last 3 years shows no crashes and no convictions for moving violations in a CMV.

Keith A. Lang

Mr. Lang, 42, has a prosthetic left eye due to a traumatic incident in 1997. The visual acuity in his right eye is 20/20, and in his left eye, no light perception. Following an examination in 2015, his optometrist stated, “With best corrected vision of 20/20 -1 in the right eye and appropriate spectacle correction, pt. [sic] is able to operate a commercial vehicle.” Mr. Lang reported that he has driven straight trucks for 6 years, accumulating 300,000 miles. He holds a Class A CDL from Texas. His driving record for the last 3 years shows no crashes and no convictions for moving violations in a CMV.

Nathan D. Langham

Mr. Langham, 56, has a chorioretinal scar in his right eye due to a traumatic incident in 1990. The visual acuity in his right eye is 20/60, and in his left eye, 20/20. Following an examination in 2015, his optometrist stated, “I certify that Nate Langham has sufficient vision to perform the driving tasks required to operate a commercial vehicle.” Mr. Langham reported that he has driven straight trucks for 10 years, accumulating 15,000 miles, and tractor-trailer combinations for 15 years, accumulating 142,500 miles. He holds a Class AM CDL from Illinois. His driving record for the last 3 years shows no crashes and no convictions for moving violations in a CMV.

Michael S. Lewis

Mr. Lewis, 49, has had refractive amblyopia in his left eye since childhood. The visual acuity in his right eye is 20/100, and in his left eye, 20/15. Following an examination in 2015, his optometrist stated, “It is my medical opinion that Mr [sic] Lewis has sufficient vision to perform the driving tasks required to operate a commercial vehicle.” Mr. Lewis reported that he has driven tractor-trailer combinations for 27 years, accumulating 1.27 million miles. He holds a Class A CDL from North Carolina. His driving record for the last 3 years shows no crashes and no convictions for moving violations in a CMV.

Hector J. Lopez

Mr. Lopez, 60, has had macular degeneration in his left eye since 1995. The visual acuity in his right eye is 20/25, and in his left eye, 20/400. Following an examination in 2015, his optometrist stated, “In my medical opinion, he has sufficient vision to perform the driving tasks required to operate a commercial vehicle at this time.” Mr. Lopez reported that he has driven tractor-trailer combinations for 23 years, accumulating 2.4 million miles. He holds an operator's license from North Carolina. His driving record for the last 3 years shows no crashes and 1 conviction for a moving violation in a CMV; he failed to obey a traffic sign.

John V. Narretto, Jr.

Mr. Narretto, 65, has had a retinal detachment in his left eye since 2005. The visual acuity in his right eye is 20/20, and in his left eye, counting fingers. Following an examination in 2015, his ophthalmologist stated, “I, Dr. David Fargason, certify in my medical opinion that Mr. Narretto has sufficient vision to perform the driving tasks required to operate a commercial vehicle.” Mr. Narretto reported that he has driven straight trucks for 32 years, accumulating 384,000 miles. He holds a Class A CDL from Louisiana. His driving record for the last 3 years shows no crashes and no convictions for moving violations in a CMV.

Branden J. Ramos

Mr. Ramos, 32, has had amblyopia in his right eye since childhood. The visual acuity in his right eye is 20/100, and in his left eye, 20/30. Following an examination in 2015, his optometrist stated, “In my medical opinion, I feel Mr. Ramos has sufficient vision to perform the driving tasks required to operate a commercial vehicle.” Mr. Ramos reported that he has driven tractor-trailer combinations for 3 years, accumulating 904,000 miles. He holds a Class A CDL from California. His driving record for the last 3 years shows no crashes and no convictions for moving violations in a CMV.

Sonny Scott

Mr. Scott, 46, has had an ocular aneurysm in his right eye since 1990. The visual acuity in his right eye is no light perception, and in his left eye, 20/20. Following an examination in 2015, his optometrist stated, “It is my medical opinion that Mr. Scott has sufficient vision to perform the driving tasks required to operate a commercial vehicle.” Mr. Scott reported that he has driven straight trucks for 18 years, accumulating 337,500 miles. He holds an operator's license from Ohio. His driving record for the last 3 years shows no crashes and no convictions for moving violations in a CMV.

Jarrod R. Seirer

Mr. Seirer, 31, has complete loss of vision in his left eye due to a traumatic incident in 2009. The visual acuity in his right eye is 20/20, and in his left eye, no light perception. Following an examination in 2015, his optometrist stated, “In my medical opinion, Mr. Jarrod Seirer has sufficient vision to perform the driving tasks required to operate a commercial vehicle.” Mr. Seirer reported that he has driven straight trucks for 1 year, accumulating 75,000 miles, and tractor-trailer combinations for 11 years, accumulating 1.71 million miles. He holds a Class A CDL from Kansas. His driving record for the last 3 years shows no crashes and no convictions for moving violations in a CMV.

Vince A. Thompson

Mr. Thompson, 28, has had refractive amblyopia in his left eye since birth. The visual acuity in his right eye is 20/20, and in his left eye, hand motion. Following an examination in 2015, his optometrist stated, “Due to his refractive amblyopia the best corrected acuity in the left eye is reduced, but this does not pose a problem at this time. I would recommend yearly eye exams and see no restrictions concerning his ability to safely operate a commercial motor vehicle.” Mr. Thompson reported that he has driven straight trucks for 4 years, accumulating 120,000 miles, and tractor-trailer combinations for 4 years, accumulating 120,000 miles. He holds a Class A CDL from Oregon. His driving record for the last 3 years shows no crashes and no convictions for moving violations in a CMV.

Daniel R. Viscaya

Mr. Viscaya, 53, has had a retinal detachment in his left eye since birth. The visual acuity in his right eye is 20/20, and in his left eye, no light perception. Following an examination in 2015, his optometrist stated, “This patient can distinguish between red and green signals and also has sufficient vision in order to operate a commercial vehicle.” Mr. Viscaya reported that he has driven straight trucks for 18 years, accumulating 2.16 million miles, and tractor-trailer combinations for 18 years, accumulating 2.16 million miles. He holds a Class A CDL from North Carolina. His driving record for the last 3 years shows no crashes and no convictions for moving violations in a CMV.

Carlos Vives

Mr. Vives, 32, has had a cataract in his right eye since childhood. The visual acuity in his right eye is 20/150, and in his left eye, 20/20. Following an examination in 2014, his optometrist stated, “Although the vision in his right eye is reduced, I believe that he has enough peripheral awareness and adequate central vision in the left eye to drive a commercial vehicle safely.” Mr. Vives reported that he has driven straight trucks for 3 years, accumulating 136,500 miles. He holds an operator's license from New Jersey. His driving record for the last 3 years shows no crashes and no convictions for moving violations in a CMV.

Otis H. Wright Jr.

Mr. Wright, 58, has had amblyopia in his right eye since childhood. The visual acuity in his right eye is 20/60, and in his left eye, 20/20. Following an examination in 2015, his optometrist stated, “I do not foresee any visual problems with Mr. Wright that would make him unable to operate a commercial vehicle: Also, he has stated to never have had any problems in the past when operating a commercial vehicle.” Mr. Wright reported that he has driven straight trucks for 7 years, accumulating 84,000 miles. He holds an operator's license from Maryland. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0071 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0071 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: October 21, 2015.
Larry W. Minor,
Associate Administrator for Policy.

[FR Doc. 2015-27879 Filed 10-30-15; 8:45 am]

BILLING CODE 4910-EX-P